DEPARTMENT OF ENERGY

Federal Energy Regulatory Commission

Alliant Energy Corporate Services, Inc.; Notice of Initiation of Proceeding and Refund Effective Date

January 7, 2005.

On December 20, 2004, the Commission issued an order in Docket Nos. ER99-230-000, et al. and ER03-762-000, et al. The Commission's order institutes a proceeding in Docket No. EL05-5-000, pursuant to section 206 of the Federal Power Act, concerning the justness and reasonableness of Alliant Energy Corporate Services, Inc.'s market-based rates.

The refund effective date in Docket No. EL05-5-000, established pursuant to section 206(b) of the Federal Power Act will be 60 days following publication of this notice in the Federal Register.

Magalie R. Salas,
Secretary.

[FR Doc. E5-143 Filed 1-13-05; 8:45 am]

BILLING CODE 6717-01-P